DEPARTMENT OF THE INTERIOR

Bureau of Indian Affairs

Notice of Renewal of Information Collection for Tribal Self-Governance, 25 CFR Part 1000

AGENCY: Bureau of Indian Affairs, Interior.

ACTION: Notice of proposed renewal of information collection.

SUMMARY: The Bureau of Indian Affairs (BIA) is seeking comments from the public on a renewal of an information collection from Indian tribes participating in and Indian tribes seeking to participate in the Tribal Self-Governance, as required by the Paperwork Reduction Act. The information collected under OMB Clearance Number, 1076-0143, will be used to meet reporting requirements of the Tribal Self-Governance Act and implement requirements for entry into a pool of qualified applicants to be selected to begin participation in Tribal Self-Governance. The information collection requirements are periodically reviewed because the number of Indian tribes participating in Tribal Self-Governance increases over time and the number of Indian tribes requesting to be selected to begin participation in Tribal Self-Governance may vary over time. This action is being taken to make sure that the requirements are not burdensome.

DATE: Submit comments on or before March 10, 2009.

ADDRESSES: Send comments to Sharee M. Freeman, Director, Office of Self-Governance, Department of the Interior, Mail Stop 355-G-SIB, 1951 Constitution Avenue, NW., Washington, DC 20240.

FOR FURTHER INFORMATION CONTACT: You may request further information or obtain copies of the proposed information collection request from Dr. Kenneth D. Reinfeld, Office of Self-Governance, Telephone 202-208-5734.

SUPPLEMENTARY INFORMATION: The collection is required by 25 U.S.C. 458dd, which requires the Secretary of the Interior to submit a written report to Congress regarding the administration of Title IV, Tribal Self-Governance, under Public Law 93-638, as amended. The report is required to: (1) Identify the relative costs and benefits of Self-Governance; (2) identify, with particularity, all funds that are specifically or functionally related to the provision by the Secretary of services and benefits to Self-Governance tribes and their members; (3) identify the funds transferred to each Self-Governance tribe and the corresponding reduction in the Federal bureaucracy; (4) include the separate views of the tribes; and (5) include the funding formula for individual tribal shares of Central Office funds, together with the comments of affected Indian tribes. Respondents are asked to respond to the annual request for information in 90 days.

In addition, the collection is required for tribes who request to be placed in a pool of qualified applicants and selected to participate in Tribal Self-Governance under 25 U.S.C. 458bb. The Act authorizes the Director, Office of Self-Governance to select up to 50 new tribes per year from an applicant pool to participate in Tribal Self-Governance. The qualified applicant pool consists of each tribe that: (1) Successfully completes a planning phase; (2) has requested participation in Tribal Self-Governance by resolution or other official action by the tribal governing body; and (3) has demonstrated, for the previous three fiscal years, financial stability and financial management capability as evidenced by the tribe having no material audit exceptions in the required annual audit of the self-determination contracts of the tribe.

Request for Comments: The Bureau of Indian Affairs requests your comments on this collection concerning: (a) The necessity of this information collection for the proper performance of the functions of the agency, including whether the information will have practical utility; (b) the accuracy of the agency's estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or request, and an individual need not respond to, a collection of information unless it has a valid OMB Control Number.

It is our policy to make all comments available to the public for review at the location listed in the ADDRESSES section, room 355-G, during the hours of 9 a.m.-5 p.m., EST Monday through Friday except for legal holidays. Please note that all comments received will be available for public review for 2 weeks after comment period closes. Before including your address, phone number, e-mail address or other personally identifiable information, be advised that your entire comment—including your personally identifiable information—may be made public at any time. While you may request that we withhold your personally identifiable information, we cannot guarantee that we will be able to do so. All comments from organizations or representatives will be available for review. We may withhold comments from review for other reasons.

OMB Control Number: 1076-0143.

Type of review: Renewal.

Title: Tribal Self-Governance Program, 25 CFR Part 1000.

Brief Description of Collection: The collection involves a voluntary submission by respondents and is intended to inform Congress of activities undertaken under Tribal Self-Governance. It also involves a mandatory submission by respondents who request to be selected to begin participation in Tribal Self-Governance.

Respondents: Tribes and tribal consortia wishing to enter into a self-governance compact and funding agreement.

Number of Respondents: 106.

Estimated Time per Response: 42 Hours.

Frequency of Response: Annually.

Total Annual Burden to Respondents: 11,202.

Dated: December 17, 2008.
Sanjeev “Sonny” Bhagowalia,
Chief Information Officer—Indian Affairs.

[FR Doc. E9-169 Filed 1-8-09; 8:45 am]

BILLING CODE 4310-XN-P